DEPARTMENT OF ENERGY

Federal Energy Regulatory Commission

[Docket No. EL19-77-000]

Oklahoma Gas and Electric Company v. Southwest Power Pool, Inc.; Notice of Complaint

Take notice that on May 24, 2019, pursuant to sections 206, 306 and 309 of the Federal Power Act, 16 U.S.C. 824e, 825e and 825h and Rule 206 of the Rules of Practice and Procedure of the Federal Energy Regulatory Commission (Commission), 18 CFR 385.206 (2019), Oklahoma Gas and Electric Company (OG&E or Complainant) filed a formal complaint against Southwest Power Pool, Inc. (SPP or Respondent) requesting that the Commission rules, that if SPP requires OG&E to refund revenue credits for use of transmission facilities that OG&E sponsored during a historical period of approximately five and one half years from April, 2010 to September, 2015, it would violate its contractual commitments and tariff obligations to OG&E, and orders that SPP not seek refunds or unwind those payments, all as more fully explained in the complaint.

OG&E certifies that copies of the complaint were served on the contacts for SPP, as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for electronic review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5 p.m. Eastern Time on June 13, 2019.

Dated: May 28, 2019.
Nathaniel J. Davis, Sr.,
Deputy Secretary.

[FR Doc. 2019-11591 Filed 6-3-19; 8:45 am]

BILLING CODE 6717-01-P